NUCLEAR REGULATORY COMMISSION

[NRC-2017-0145]

Regulatory Guide 1.206—Applications for Nuclear Power Plants

AGENCY: Nuclear Regulatory Commission.

ACTION: Regulatory guide; issuance and withdrawal of interim staff guidance.

SUMMARY: The U.S. Nuclear Regulatory Commission (NRC) is issuing Revision 1 to Regulatory Guide (RG), “Applications for Nuclear Power Plants.” This update of RG 1.206, “Combined License Applications for Nuclear Power Plants (LWR Edition),” dated June 2007, provides updated guidance for prospective applicants regarding the format and content of applications for new nuclear power plants. The revision reflects the lessons learned regarding the review of nuclear power plant applications since 2007. Two significant changes include: (1) The addition of new guidance to applicants for standard design certifications (DCs) and early site permits (ESPs), and (2) the removal of detailed technical information for a combined license (COL) that was highly redundant with information in NUREG-0800, “Standard Review Plan for the Review of Safety Analysis Reports for Nuclear Power Plants: LWR Edition” (SRP). The NRC is additionally withdrawing four interim staff guidance documents due to the incorporation of their guidance into RG 1.206, Revision 1.

DATES: Revision 1 to RG 1.206 is available on October 12, 2018.

ADDRESSES: Please refer to Docket ID NRC-2017-0145 when contacting the NRC about the availability of information regarding this document. You may obtain publicly-available information related to this document using any of the following methods:

• Federal Rulemaking website: Go to http://www.regulations.gov and search for Docket ID NRC-2017-0145. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS Accession No. for each document referenced (if it is available in ADAMS) is provided the first time that it is mentioned in this document.

• NRC's PDR: You may examine and purchase copies of public documents at the NRC's PDR, Room O1-F21, One White Flint North, 11555 Rockville Pike, Rockville, Maryland 20852. Revision 1 to RG 1.206 and the regulatory analysis may be found in ADAMS under Accession Nos. ML18131A181 and ML17013A624, respectively.

Regulatory guides are not copyrighted, and NRC approval is not required to reproduce them.

FOR FURTHER INFORMATION CONTACT: Barbara Hayes, Office of New Reactors, 301-415-7442, email: Barbara.Hayes@nrc.gov, who is a member of the staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses. Revision 1 of RG 1.206 was issued with a temporary identification of Draft Regulatory Guide (DG)-1325.

RG 1.206, Revision 1, entitled “Applications for Nuclear Power Plants,” provides revised guidance for prospective applicants regarding the format and content of applications for new nuclear power plants under the provisions in part 52 of title 10 of the Code of Federal Regulations (10 CFR), “Licenses, Certifications, and Approvals for Nuclear Power Plants.”

RG 1.206, Revision 1, reflects changes based on lessons learned regarding the review of nuclear power plant DC, ESP, and COL applications under 10 CFR part 52, since the initial issuance of RG 1.206 in 2007. The scope of the revision has been expanded beyond COL applications to more explicitly address the current application process related to applications for DCs, ESPs, and limited work authorizations and the title has been changed accordingly. It provides more integrated guidance regarding the overall format and content for COL, DC, and ESP applications and additionally reflects the NRC staff's position that, although the guidance therein is intended for applicability to power reactors with light-water reactor (LWR) technology, it will be generally applicable to other types of power reactors (e.g., non-LWRs).

RG 1.206, Revision 1, also satisfies the two remaining action items from the NRC's April 2013, Lessons Learned Report (ADAMS Accession No. ML13059A240) by (1) revising RG 1.206 to reflect lessons learned and (2) incorporating DC/COL ISG11, “Finalizing Licensing Basis Information,” (ADAMS Accession No. ML092890623) in the revised RG 1.206. This revision also reflects the removal of detailed technical information on COL Safety Analysis Report content relative to the 2007 version of RG 1.206 that was highly redundant with information that is provided and maintained in the SRP. Under 10 CFR 52.17(a)(1)(xii), 10 CFR 52.47(a)(9), and 10 CFR 52.79(a)(41), applicants for ESP, DC and COL are respectively required to document an evaluation against applicable sections of the SRP and describe differences in specific information provided in the SRP including measures given in the SRP acceptance criteria. This requirement effectively provides applicants more current and comprehensive information related to detailed COL safety analysis report technical content and methods or approaches that the staff previously has found acceptable for meeting NRC requirements than what is available in RG 1.206, Rev. 0.

The guidance in RG 1.206, Revision 1, is divided into two parts: Section C.1 provides guidance for the organization, content, and format of an application under 10 CFR part 52; and Section C.2 contains information and guidance on a number of application regulatory topics related to the preparation, submittal, acceptance, and review of applications. The application regulatory topics include updated guidance that will allow the withdrawal of interim staff guidance. The NRC staff withdraws the following four documents:

• DC/COL-ISG-011, “Interim Staff Guidance Finalizing Licensing Basis Information” (ADAMS Accession No. ML092890623),

• ESP/DC/COL-ISG-015, “Interim Staff Guidance on Post Combined License Commitments” (ADAMS Accession No. ML091671355),

• COL/ESP-ISG-04, “Interim Staff Guidance on the Definition of Construction and on Limited Work Authorizations” (ADAMS Accession No. ML082970729), and

• DC/COL ISG-08, “Final Interim Staff Guidance Necessary Content of Plant-Specific Technical Specifications When a Combined License is Issued” (ADAMS Accession No. ML083310259).

In September 2014, as part of its periodic review of related guidance in RG 1.70, Revision 3 (ADAMS Accession No. ML14272A331), “Standard Format and Content of Safety Analysis Reports for Nuclear Power Plants (LWR),” the staff recommended the withdrawal of RG 1.70 once information relevant to the licensing of nuclear power plants under 10 CFR part 50 is included in an update to RG 1.206. RG 1.70 is used by the operating fleet. As such, the NRC staff will not withdraw RG 1.70 but if information relevant to the licensing of nuclear power plants under 10 CFR part 50 is included in a future update to RG 1.70 or another guidance document, the staff may set a date beyond which RG 1.70 should no longer be referenced or used as guidance for licensing actions. The additional scope related to 10 CFR part 50 construction permits and operating licenses is not included in the current revision of RG 1.206 and RG 1.70 has not been withdrawn.

The technical application guidance for a safety analysis report that was previously included in RG 1.206, Revision 0, is being updated to reflect lessons learned and will be developed into interim staff guidance (ISG), a NUREG, or other knowledge management document. The document is expected to be useful to both applicants and to staff working on future updates to the SRP, however, direct incorporation of applicant guidance in the SRP is not expected.

II. Additional Information

The NRC published a notice of the availability of DG-1325 in the Federal Register on June 20, 2017, Volume 82, page 28101, for a 90-day public comment period. The public comment period closed on September 18, 2017. Public comments on DG-1325 and the staff responses to the public comments are available in ADAMS under Accession No. ML18129A197.

III. Congressional Review Act

This RG is a rule as defined in the Congressional Review Act (5 U.S.C. 801-808). However, the Office of Management and Budget has not found it to be a major rule as defined in the Congressional Review Act.

IV. Backfitting and Issue Finality

RG 1.206, Revision 1, provides guidance for applicants regarding the format and content of applications for new ESPs, DCs, and COLs under 10 CFR part 52. Issuance of RG 1.206, Revision 1, does not constitute backfitting under 10 CFR part 50 and is not otherwise inconsistent with the issue finality provisions in 10 CFR part 52. As discussed in the “Implementation” section of this RG, the NRC has no current intention to impose the RG on current holders of ESPs or COLs or a DC applicant under 10 CFR part 52.

RG 1.206, Revision 1, can be applied to applications for 10 CFR part 52 ESPs, COLs, and DCs. Such action does not constitute backfitting as defined in 10 CFR 50.109 (the Backfit Rule) and is not otherwise inconsistent with the applicable issue finality provision in 10 CFR part 52, inasmuch as such applicants are not, with certain exceptions, protected by either the Backfit Rule or any issue finality provisions under 10 CFR part 52. This is because neither the Backfit Rule nor the issue finality provisions under 10 CFR part 52, with certain exclusions discussed below, were intended to apply to every NRC action that substantially changes the expectations of current and future applicants. The exceptions to the general principle are applicable whenever an applicant references a 10 CFR part 52 license (e.g., an early site permit), an NRC regulatory approval (e.g., a design certification rule), or both, with specified issue finality provisions. The staff does not, at this time, intend to impose the positions represented in RG 1.206, Revision 1, in a manner that is inconsistent with any issue finality provisions. If, in the future, the staff seeks to impose a position in RG 1.206, Revision 1, in a manner that does not provide issue finality as described in the applicable issue finality provision, then the staff must address the criteria for avoiding issue finality as described in the applicable issue finality provision.

Dated at Rockville, Maryland, this 9th day of October 2018.
For the Nuclear Regulatory Commission.
Jennivine K. Rankin,
Acting Chief, Licensing Branch 3, Division of Licensing, Siting, and Environmental Analysis, Office of New Reactors.

[FR Doc. 2018-22262 Filed 10-11-18; 8:45 am]

BILLING CODE 7590-01-P